DEPARTMENT OF TRANSPORTATION

Maritime Administration

[Docket No. MARAD-2026-0266]

Request for Comments on the Renewal of a Previously Approved Information Collection: Regulations for Making Excess or Surplus Federal Property Available to the U.S. Merchant Marine Academy, State Maritime Academies and Non-Profit Maritime Training Facilities

AGENCY: Maritime Administration (MARAD), U.S. Department of Transportation (DOT).

ACTION: Notice.

SUMMARY: MARAD invites public comments on its intention to request Office of Management and Budget (OMB) approval to renew an information collection in accordance with the Paperwork Reduction Act of 1995. The proposed collection OMB 2133-0504 (Regulations for Making Excess or Surplus Federal Property Available to the U.S. Merchant Marine Academy, State Maritime Academies and Non-Profit Maritime Training Facilities) is used to determine compliance with applicable statutory requirements regarding surplus government property. This collection is being revised to include a new form MA-1073C Agreement for Donation of Federal Property for Historical Purposes. MARAD is required to publish this notice in the Federal Register to obtain comments from the public and affected agencies.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Katrina McRae, 202-366-3198, Office of Sealift Support, U.S. Department of Transportation, Maritime Administration, 1200 New Jersey Avenue SE, Washington, DC 20590, Email: Katrina.mcrae@dot.gov.

SUPPLEMENTARY INFORMATION:

Title: Regulations for Making Excess or Surplus Federal Property Available to the U.S. Merchant Marine Academy, State Maritime Academies and Non-Profit Maritime Training Facilities.

OMB Control Number: 2133-0504.

Type of Request: Revision of a currently approved collection.

Abstract: MARAD requires approved maritime training institutions seeking excess or surplus government property to provide a statement of need/or justification prior to acquiring the property, using this information collection.

Respondents: Maritime training institutions, such as the U.S. Merchant Marine Academy, State Maritime Academies and non-profit maritime institutions.

Affected Public: State, Local or Tribal Government.

Estimated Number of Respondents: 40.

Estimated Number of Responses: 360.

Estimated Hours per Response: Between 1 and 4.

Annual Estimated Total Annual Burden Hours: 360.

Frequency of Response: Annually.

A 60-day Federal Register Notice soliciting comments on this information collection was published on December 23, 2025, (90 Federal Register (FR) 60233).

(Authority: The Paperwork Reduction Act of 1995; 44 U.S.C. Chapter 35, as amended; and 49 CFR 1.49.)

By Order of the Maritime Administrator.
T. Mitchell Hudson, Jr.,
Secretary, Maritime Administration.

[FR Doc. 2026-03976 Filed 2-26-26; 8:45 am]

BILLING CODE 4910-81-P